DEPARTMENT OF ENERGY

Federal Energy Regulatory Commission

Combined Notice of Filings #1

Take notice that the Commission received the following electric corporate filings:

Docket Numbers: EC15-152-000.

Applicants: American Transmission Company LLC.

Description: Application for Authority to Acquire Transmission Facilities of American Transmission Company LLC.

Filed Date: 6/2/15.

Accession Number: 20150602-5199.

Comments Due: 5 p.m. ET 6/23/15.

Docket Numbers: EC15-153-000.

Applicants: PowerOne Corporation, ResCom Energy LLC.

Description: Application under Section 203 of ResCom Energy LLC, et al.

Filed Date: 6/2/15.

Accession Number: 20150602-5204.

Comments Due: 5 p.m. ET 6/23/15.

Take notice that the Commission received the following electric rate filings:

Docket Numbers: ER10-2437-002.

Applicants: Arizona Public Service Company.

Description: Arizona Public Service Company Notice of Non-Material Change in Status.

Filed Date: 6/2/15.

Accession Number: 20150602-5200.

Comments Due: 5 p.m. ET 6/23/15.

Docket Numbers: ER10-2740-008; ER10-2742-006.

Applicants: Rocky Road Power, LLC, Tilton Energy LLC.

Description: Notice of Change in Status of Rocky Road Power, LLC, et al.

Filed Date: 6/2/15.

Accession Number: 20150602-5193.

Comments Due: 5 p.m. ET 6/23/15.

Docket Numbers: ER15-1364-001.

Applicants: Midcontinent Independent System Operator, Inc.

Description: Compliance filing per 35: 2015-06-03_SA 768 Compliance ATC-UPPCo Bill of Sales to be effective N/A.

Filed Date: 6/3/15.

Accession Number: 20150603-5034.

Comments Due: 5 p.m. ET 6/24/15.

Docket Numbers: ER15-1366-001.

Applicants: Midcontinent Independent System Operator, Inc.

Description: Compliance filing per 35: 2015-06-03_SA 2761 Compliance ATC-UPPCo CFA to be effective N/A.

Filed Date: 6/3/15.

Accession Number: 20150603-5039.

Comments Due: 5 p.m. ET 6/24/15.

Docket Numbers: ER15-1368-001.

Applicants: Midcontinent Independent System Operator, Inc.

Description: Compliance filing per 35: 2015-06-03_SA 2762 Compliance ATC-UPPCo PCA to be effective N/A.

Filed Date: 6/3/15.

Accession Number: 20150603-5043.

Comments Due: 5 p.m. ET 6/24/15.

Docket Numbers: ER15-1408-001.

Applicants: Midcontinent Independent System Operator, Inc.

Description: Compliance filing per 35: 2015-06-03_SA 2768 Compliance ATC-City of Plymouth CFA to be effectiveN/A.

Filed Date: 6/3/15.

Accession Number: 20150603-5065.

Comments Due: 5 p.m. ET 6/24/15.

Docket Numbers: ER15-1842-000.

Applicants: Southern California Edison Company.

Description: Tariff Withdrawal per 35.15: Notice of Cancellation FTSA with M-S-R to be effective 6/1/2015.

Filed Date: 6/3/15.

Accession Number: 20150603-5006.

Comments Due: 5 p.m. ET 6/24/15.

Docket Numbers: ER15-1843-000.

Applicants: NextEra Energy, Inc.

Description: Petition for Waiver of Affiliate Pricing Rules of NextEra Energy, Inc. under ER15-1843.

Filed Date: 6/2/15.

Accession Number: 20150602-5201.

Comments Due: 5 p.m. ET 6/23/15.

Docket Numbers: ER15-1844-000.

Applicants: PJM Interconnection, L.L.C.

Description: Section 205(d) rate filing per 35.13(a)(2)(iii): Original WMPA Service Agreement 4159; Queue AA1-131 to be effective 5/26/2015.

Filed Date: 6/3/15.

Accession Number: 20150603-5048.

Comments Due: 5 p.m. ET 6/24/15.

Docket Numbers: ER15-1845-000.

Applicants: New York Independent System Operator, Inc., Consolidated Edison Company of New York, Inc.

Description: Section 205(d) rate filing per 35.13(a)(2)(iii): O&R Con Ed-Ramapo Interconnection Agreement (SA 2216) to be effective 6/4/2015.

Filed Date: 6/3/15.

Accession Number: 20150603-5089.

Comments Due: 5 p.m. ET 6/24/15.

Docket Numbers: ER15-1846-000.

Applicants: New York Independent System Operator, Inc., Consolidated Edison Company of New York, Inc.

Description: Section 205(d) rate filing per 35.13(a)(2)(iii): SA 2217 O&R Con Ed-Sugarloaf interconnection agreement to be effective 6/4/2015.

Filed Date: 6/3/15.

Accession Number: 20150603-5091.

Comments Due: 5 p.m. ET 6/24/15.

Docket Numbers: ER15-1847-000.

Applicants: Tucson Electric Power Company.

Description: Section 205(d) rate filing per 35.13(a)(2)(iii): Re-collation Filing to be effective 6/3/2015.

Filed Date: 6/3/15.

Accession Number: 20150603-5128.

Comments Due: 5 p.m. ET 6/24/15.

Docket Numbers: ER15-1848-000.

Applicants: RTO Energy Trading, LLC.

Description: Tariff Withdrawal per 35.15: Notice of Cancellation of Market-Based Rate Tariff to be effective 6/30/2015.

Filed Date: 6/3/15.

Accession Number: 20150603-5131.

Comments Due: 5 p.m. ET 6/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2015.
Nathaniel J. Davis, Sr.,
Deputy Secretary.

[FR Doc. 2015-14023 Filed 6-8-15; 8:45 am]

BILLING CODE 6717-01-P